DEPARTMENT OF TRANSPORTATION

Federal Aviation Administration

14 CFR Part 39

[Docket No. FAA-2010-0380; Directorate Identifier 2009-NM-009-AD]

RIN 2120-AA64

Airworthiness Directives; The Cessna Aircraft Company Model 750 Airplanes

AGENCY: Federal Aviation Administration (FAA), Department of Transportation (DOT).

ACTION: Notice of proposed rulemaking (NPRM).

SUMMARY: The FAA proposes to supersede an existing airworthiness directive (AD) that applies to all Model 750 airplanes. The existing AD currently requires inspecting the inboard-hinge brackets of the left and right elevators for cracking and doing related investigative and corrective actions if necessary. For certain airplanes, this proposed AD would require inspecting for cracks and corrosion of the bracket of the inboard horizontal stabilizer and measuring the lug thickness of the horizontal stabilizer hinges; doing corrective actions if necessary; modifying the left and right elevators and left and right horizontal stabilizer. For all airplanes, this proposed AD would require replacing the existing elevator assemblies with new elevator assemblies, which would terminate the requirements of the existing AD. This proposed AD would also revise the applicability to remove certain airplanes. This proposed AD results from a report of cracking and corrosion found on the elevator inboard-hinge brackets and the horizontal stabilizer hinges. We are issuing this AD to prevent such cracking and corrosion of the elevator inboard-hinge brackets and the horizontal stabilizer hinges, which could result in structural failure of the elevators and consequent loss of control of the airplane.

DATES: We must receive comments on this proposed AD by May 24, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Cessna Aircraft Co., P.O. Box 7706, Wichita, Kansas 67277; telephone 316-517-6215; fax 316-517-5802; e-mail citationpubs@cessna.textron.com; Internet https://www.cessnasupport.com/newlogin.html. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: T.N. Baktha, Aerospace Engineer, Airframe Branch, ACE-118W, FAA, Wichita Aircraft Certification Office, 1801 Airport Road, Room 100, Mid-Continent Airport, Wichita, Kansas 67209; telephone (316) 946-4155; fax (316) 946-4107.

SUPPLEMENTARY INFORMATION:

Comments Invited

We invite you to send any written relevant data, views, or arguments about this proposed AD. Send your comments to an address listed under the ADDRESSES section. Include “Docket No. FAA-2010-0380; Directorate Identifier 2009-NM-009-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On October 26, 2006, we issued AD 2006-23-05, Amendment 39-14817 (71 FR 65047, November 7, 2006), for all The Cessna Aircraft Company Model 750 airplanes. That AD requires inspecting the inboard-hinge brackets of the left and right elevators for cracking, and doing related investigative and corrective actions if necessary. That AD resulted from a report of cracking found on the elevator inboard-hinge brackets. We issued that AD to detect and correct cracking of the elevator inboard-hinge brackets, which could result in structural failure of the elevators and consequent loss of control of the airplane.

Actions Since Existing AD Was Issued

The preamble to AD 2006-23-05 explains that we considered the requirements “interim action” and were considering further rulemaking if a final action is identified. We now have determined that further rulemaking is indeed necessary, and this proposed AD follows from that determination.

Relevant Service Information

We have reviewed Cessna Service Bulletin SB750-27-62, Revision 3, dated August 21, 2009, including Service Bulletin Supplemental Data, Revision D, dated September 18, 2009. That service bulletin describes procedures for the following:

• For certain airplanes, doing an eddy current inspection for cracks of the bracket of the inboard horizontal stabilizer; and corrective action, if necessary, which is replacing any cracked bracket of the inboard horizontal stabilizer with a serviceable bracket.

• For certain airplanes, measuring the lug thickness of the horizontal stabilizer hinges; and corrective action, if necessary, which is replacing the bearing plate with a serviceable bearing plate if the lug thickness is not within the acceptable tolerance range.

• For certain airplanes, modifying the left and right horizontal stabilizer, and adding the modification part number of the horizontal stabilizer to the modification section of the MS27253-1 identification plate.

• For all airplanes, replacing the left and right elevator assemblies with new elevator assemblies.

Accomplishment of the applicable actions specified in Cessna Service Bulletin SB750-27-62, Revision 3, dated August 21, 2009, eliminates the need for the actions required by AD 2006-23-05.

FAA's Determination and Requirements of the Proposed AD

We have evaluated all pertinent information and identified an unsafe condition that is likely to develop on other airplanes of the same type design. For this reason, we are proposing this AD, which would supersede AD 2006-23-05 and would retain the requirements of the existing AD. This proposed AD removes certain airplanes from the applicability of the existing AD. Cessna Model 750 airplanes with serial number 750-306 and subsequent are no longer subject to the requirements of this AD as Cessna has incorporated the applicable requirements in production. This proposed AD would also require accomplishing the actions specified in the “Relevant Service Information” described previously, except as discussed under “Differences Between the Proposed AD and Service Bulletin.”

Differences Between the Proposed AD and Service Bulletin

Cessna Service Bulletin SB750-27-62, Revision 3, dated August 21, 2009, specifies to do eddy current inspection for cracks of the bracket of the inboard horizontal stabilizer and replace any cracked brackets. This proposed AD would also require an inspection for corrosion and replacement of any corroded brackets.

Change to Existing AD

This proposed AD would retain the requirements of AD 2006-23-05. Since AD 2006-23-05 was issued, the AD format has been revised, and certain paragraphs have been rearranged. As a result, the corresponding paragraph identifiers have changed in this proposed AD, as listed in the following table:

Revised Paragraph Identifiers
Requirement in AD 2006-23-05 | Corresponding requirement in this proposed AD
paragraph (d) | paragraph (e)
paragraph (e) | paragraph (f)
paragraph (f) | paragraph (g)
paragraph (g) | paragraph (h)
paragraph (h) | paragraph (i)
paragraph (i) | paragraph (j)

Costs of Compliance

The following table provides the estimated costs for U.S. operators to comply with this proposed AD.

Estimated Costs
Action | Work hours | Average labor rate per hour | Parts | Cost per airplane | Number of U.S.-registered airplanes | Fleet cost
Inspection (required by AD 2006-23-05) | 2 | $85 | $0 | $170 | 253 | $43,010.
Modification and Replacement (new proposed actions) | Up to 200 | 85 | The manufacturer states that it will supply parts to the operators at no cost | Up to $17,000 | 253 | Up to 4,301,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14817 (71 FR 65047, November 7, 2006) and adding the following new AD:

The Cessna Aircraft Company: Docket No. FAA-2010-0380; Directorate Identifier 2009-NM-009-AD.

Comments Due Date

(a) The FAA must receive comments on this AD action by May 24, 2010.

Affected ADs

(b) This AD supersedes AD 2006-23-05, Amendment 39-14817.

Applicability

(c) This AD applies to The Cessna Aircraft Company Model 750 airplanes, certificated in any category, as identified in Cessna Service Bulletin SB750-27-62, Revision 3, dated August 21, 2009.

Subject

(d) Air Transport Association (ATA) of America Code 27: Flight Controls.

Unsafe Condition

(e) This AD results from a report of cracking and corrosion found on the elevator inboard-hinge brackets and the horizontal stabilizer hinges. The Federal Aviation Administration is issuing this AD to prevent cracking and corrosion of the elevator inboard-hinge brackets and the horizontal stabilizer hinges, which could result in structural failure of the elevators and consequent loss of control of the airplane.

Compliance

(f) You are responsible for having the actions required by this AD performed within the compliance times specified, unless the actions have already been done.

RESTATEMENT OF REQUIREMENTS OF AD 2006-23-05, WITH NO CHANGES:

Inspection

(g) After the airplane accumulates 2,500 total flight hours: Perform a general visual inspection for cracking of the inboard-hinge brackets of the left and right elevators in accordance with the Accomplishment Instructions of Cessna Alert Service Letter ASL750-27-21, dated October 13, 2006. Do the inspection before the airplane accumulates 3,000 total flight hours, or within 10 flight hours after November 22, 2006 (the effective date of AD 2006-23-05), whichever is later.

Note 1: For the purposes of this AD, a general visual inspection is: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Related Investigative and Corrective Actions

(h) If any crack is found during the inspection required by paragraph (g) of this AD: Before further flight, perform an eddy current inspection of the inboard-hinge brackets to determine the crack length, in accordance with the Accomplishment Instructions of Cessna Alert Service Letter ASL750-27-21, dated October 13, 2006; and do the actions specified in paragraph (h)(1) or (h)(2) of this AD, as applicable, at the time specified. All corrective actions must be done using a method approved by the Manager, Wichita Aircraft Certification Office (ACO), FAA. For a replacement method to be approved by the Manager, Wichita ACO, as required by this paragraph, the Manager's approval letter must specifically refer to this AD.

(1) If the crack is 0.30 inch or more: Replace the bracket before further flight.

(2) If the crack is less than 0.30 inch: Continued flight for a maximum of 10 flight hours for repositioning of the airplane and replacement of the bracket is allowed, within the restricted flight envelope included in the attachment to Cessna Alert Service Letter ASL750-27-21, dated October 13, 2006, titled “Flight Restrictions.”

Special Flight Permits

(i) Special flight permits, as described in Section 39.23 of the Federal Aviation Regulations (14 CFR 39.23), are allowed with the limitations required by paragraph (h)(2) of this AD.

No Reporting or Return of Parts to Manufacturer

(j) Cessna Alert Service Letter ASL750-27-21, dated October 13, 2006, specifies submitting a sheet related to inspection results to the manufacturer; this AD does not include that requirement. The service letter also specifies sending the elevator assembly to the manufacturer for replacement of the inboard-hinge bracket if a crack is found that is 0.30 inch or more; however, this AD requires corrective actions be done using a method approved by us.

NEW REQUIREMENTS OF THIS AD:

(k) Within 60 months after the effective date of this AD, do the applicable actions required by paragraphs (k)(1), (k)(2), (k)(3), and (k)(4) of this AD, in accordance with the Accomplishment Instructions of Cessna Service Bulletin SB750-27-62, Revision 3, dated August 21, 2009. Accomplishing the actions required by paragraph (k) of this AD terminates the requirements of paragraphs (g) through (j) of this AD.

(1) For all airplanes except those having S/Ns 288 through 305 inclusive: Do an eddy current inspection for cracks and corrosion of the bracket of the inboard horizontal stabilizer. Before further flight, replace any cracked or corroded bracket of the inboard horizontal stabilizer with a serviceable bracket.

(2) For all airplanes except those having S/Ns 288 through 305 inclusive: Measure the lug thickness of the horizontal stabilizer hinges. If the lug thickness is not within the acceptable tolerance range, as identified in Cessna Service Bulletin SB750-27-62, Revision 3, dated August 21, 2009, before further flight, replace the bearing plate with a serviceable bearing plate.

(3) For all airplanes except those having S/Ns 288 through 305 inclusive: Modify the left and right horizontal stabilizer; and add the modification part number of the horizontal stabilizer to the modification section of the MS27253-1 identification plate.

(4) For all airplanes: Replace the existing elevator assemblies with new elevator assemblies having part numbers 6734000-17 (for the left side) and 6734000-18 (for the right side).

Credit for Actions Done Using the Previous Service Information

(l) Actions accomplished before the effective date of this AD in accordance with the service bulletins identified in Table 1 of this AD are considered acceptable for compliance with the corresponding requirements of paragraph (k) of this AD.

Table 1—Credit for Previous Service Bulletins
Service Bulletin | Revision level | Date
Cessna Service Bulletin SB750-27-62 | Original | October 13, 2008.
Cessna Service Bulletin SB750-27-62 | 1 | October 22, 2008.
Cessna Service Bulletin SB750-27-62 | 2 | December 17, 2008.

Alternative Methods of Compliance (AMOCs)

(m)(1) The Manager, Wichita Aircraft Certification Office (ACO), FAA, has the authority to approve AMOCs for this AD, if requested using the procedures found in 14 CFR 39.19. Send information to ATTN: T.N. Baktha, Aerospace Engineer, Airframe Branch, ACE-118W, FAA, Wichita ACO, 1801 Airport Road, Room 100, Mid-Continent Airport, Wichita, Kansas 67209; telephone (316) 946-4155; fax (316) 946-4107.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Issued in Renton, Washington, on April 1, 2010.
Ali Bahrami,
Manager, Transport Airplane Directorate, Aircraft Certification Service.

[FR Doc. 2010-7943 Filed 4-7-10; 8:45 am]

BILLING CODE 4910-13-P